DEPARTMENT OF TRANSPORTATION

National Highway Traffic Safety Administration

49 CFR Part 541

[Docket No. NHTSA-2013-0073]

Preliminary Theft Data; Motor Vehicle Theft Prevention Standard

AGENCY: National Highway Traffic Safety Administration (NHTSA), Department of Transportation.

ACTION: Publication of preliminary theft data; Request for Comments; Correction.

SUMMARY: The National Highway Traffic Safety Administration (NHTSA) published in the Federal Register of July 9, 2013, a request for comments about thefts of model year (MY) 2011 passenger motor vehicles that occurred in calendar year (CY) 2011. This document corrects errors that were made in that publication. In the July 9, 2013 publication, the vehicle theft rate for CY/MY 2011 vehicles was erroneously reported to be 0.10 thefts per thousand vehicles produced. The actual theft rate for CY/MY 2011 vehicles is 0.99 thefts per thousand vehicles produced. Accordingly, Figure 1: Theft Rate Data Trend (1993-2011) has been amended to reflect the revised theft rate for CY/MY 2011. The publication also erroneously reported that the theft rate for CY/MY 2011 decreased significantly by 91.45 percent from the theft rate for CY/MY 2010 vehicles. The publication should be corrected to reflect that the theft rate for CY/MY 2011 decreased significantly by 15.38 percent from the theft rate for CY/MY 2010 vehicles (1.17 thefts per thousand vehicles). The republishing of this document in its entirety corrects those errors. This document also extends the comment period to allow 60 days from the publication of this notice.

Publication of these data fulfills NHTSA's statutory obligation to periodically obtain accurate and timely theft data, and publish the information for review and comment.

DATES: Comments must be submitted on or before October 15, 2013.

ADDRESSES: You may submit comments identified by Docket No. NHTSA-2012-0073 by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: 202-493-2251.

Instructions: For detailed instructions on submitting comments and additional information on the rulemaking process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://DocketsInfo.dot.gov.

Docket: For access to the docket to read background documents or comments received, go to http://www.regulations.gov or the street address listed above. Follow the online instructions for accessing the dockets.

FOR FURTHER INFORMATION CONTACT: Ms. Rosalind Proctor, Office of International Policy, Fuel Economy and Consumer Programs, NHTSA, 1200 New Jersey Avenue SE., Washington, DC 20590. Ms. Proctor's telephone number is (202) 366-4807. Her fax number is (202) 493-0073.

SUPPLEMENTARY INFORMATION: This publication revises the Federal Register notice published on July 9, 2013 (78 FR 41016) which erroneously reported the theft rate for CY/MY 2011 vehicles and the percentage of its change from the theft rate for CY/MY 2010 vehicles. No other errors exist in the publication. The publication has been revised and is reprinted below in its entirety.

NHTSA administers a program for reducing motor vehicle theft. The central feature of this program is the Federal Motor Vehicle Theft Prevention Standard, 49 CFR Part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the § 33104(b)(4) mandate, this document reports the preliminary theft data for CY 2011 the most recent calendar year for which data are available.

In calculating the 2011 theft rates, NHTSA followed the same procedures it has used since publication of the 1983/1984 theft rate data (50 FR 46669, November 12, 1985). The 2011 theft rate for each vehicle line was calculated by dividing the number of reported thefts of MY 2011 vehicles of that line stolen during calendar year 2011 by the total number of vehicles in that line manufactured for MY 2011, as reported to the Environmental Protection Agency (EPA). As in all previous reports, NHTSA's data were based on information provided to NHTSA by the National Crime Information Center (NCIC) of the Federal Bureau of Investigation. The NCIC is a government system that receives vehicle theft information from approximately 23,000 criminal justice agencies and other law enforcement authorities throughout the United States. The NCIC data also include reported thefts of self-insured and uninsured vehicles, not all of which are reported to other data sources.

The preliminary 2011 theft data show a significant decrease in the vehicle theft rate when compared to the theft rate experienced in CY/MY 2010 (For 2010 theft data, see 77 FR 58500, September 21, 2012). The preliminary theft rate for MY 2011 passenger vehicles stolen in calendar year 2011 decreased to 0.99 thefts per thousand vehicles produced, a decrease of 15.38 percent from the rate of 1.17 thefts per thousand vehicles experienced by MY 2010 vehicles in CY 2010. For MY 2011 vehicles, out of a total of 226 vehicle lines, four lines had a theft rate higher than 3.5826 per thousand vehicles, the established median theft rate for MYs 1990/1991 (See 59 FR 12400, March 16, 1994). Of the four vehicle lines with a theft rate higher than 3.5826, four are passenger car lines, none are multipurpose passenger vehicle lines, and none are light-duty truck lines.

The agency believes that the theft rate reduction is a result of several factors, including vehicle parts marking; the increased use of standard antitheft devices and other advances in electronic technology (i.e., immobilizers) and theft prevention methods; increased and improved prosecution efforts by law enforcement organizations; and, increased public awareness which may have contributed to the overall reduction in vehicle thefts. The preliminary MY 2011 theft rate reduction is consistent with the general decreasing trend of theft rates over the past 19 years as indicated by Figure 1.

Theft Rate Per Thousand Vehicles Produced

In Table I, NHTSA has tentatively ranked each of the MY 2011 vehicle lines in descending order of theft rate. Public comment is sought on the accuracy of the data, including the data for the production volumes of individual vehicle lines.

Comments must not exceed 15 pages in length (49 CFR part 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given in the FOR FURTHER INFORMATION CONTACT section, and two copies from which the purportedly confidential information has been deleted should be submitted to the docket. A request for confidentiality should be accompanied by a cover letter setting forth the information specified in the agency's confidential business information regulation. 49 CFR Part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://DocketsInfo.dot.gov.

Authority: 49 U.S.C. 33101, 33102 and 33104; delegation of authority at 49 CFR 1.50.

BILLING CODE 4910-59-P

Issued on: August 5, 2013.
Christopher J. Bonanti,
Associate Administrator for Rulemaking.

[FR Doc. 2013-20020 Filed 8-15-13; 8:45 am]

BILLING CODE 4910-59-C